DEPARTMENT OF THE INTERIOR

Bureau of Land Management

[LLNV056000.L58530000.EU0000; N-81926 et al; 9-08807; TAS: 14X5232]

Notice of Realty Action: Competitive Online Auction of Public Lands in Clark County, NV

AGENCY: Bureau of Land Management, Interior.

ACTION: Notice of realty action.

SUMMARY: Pursuant to the Southern Nevada Public Land Management Act of 1998 (SNPLMA), Public Law 105-263, as amended, the Bureau of Land Management (BLM) proposes to offer 14 parcels of public land totaling approximately 35 acres in the Las Vegas Valley by competitive online auction at not less than the fair market value (FMV). The online sale will be subject to the applicable provisions of Sections 203 and 209 of the Federal Land Policy and Management Act of 1976 (FLPMA), 43 U.S.C. 1713 and 1719, respectively, and BLM land sale and mineral conveyance regulations at 43 CFR 2710 and 2720.

DATES: Interested parties may submit written comments regarding the proposed sale of public lands and the environmental assessment (EA) until October 26, 2009. The sale by competitive online auction, conducted by U.S. General Services Administration (GSA), will begin on November 18, 2009 and will remain open for bid for a period of 30 days.

ADDRESSES: Mail written comments to the BLM District Manager, Southern Nevada District Office, 4701 N. Torrey Pines Drive, Las Vegas, NV 89130.

FOR FURTHER INFORMATION CONTACT: Manuela Johnson at manuela_johnson@nv.blm.gov or (702) 515-5224. For general information on previous BLM public land sales, go to: http://www.blm.gov/nv/st/en/snplma/Land_Auctions.html. Bidders may register on the GSA Web site at http://www.auctionrp.com/.

SUPPLEMENTARY INFORMATION: The proposed SNPLMA sale parcels were analyzed in the Las Vegas Valley Disposal Boundary Environmental Impact Statement (EIS), approved December 23, 2004. One sale parcel, N-86661, is analyzed in EA number DOI-BLM-NV-S010-2009-0167-EA for this sale which tiers to the EIS. On publication of this notice, this EA is available for public review and comment. Thirteen parcels being offered in this sale were previously analyzed through EAs and approved for sale. Copies of the EAs for N-81926, N-81927, N-78190, N-80730, N-81930 through N-81938 are available at the BLM Las Vegas Field Office (LVFO) located at the address above.

This public sale is in conformance with the BLM Las Vegas Resource Management Plan (RMP), approved on October 5, 1998. The BLM has determined that the proposed action conforms to the RMP decision LD-1 under the authority of the FLPMA.

Mount Diablo Meridian, Nevada,

T. 22 S., R. 60 E.,

sec. 12, SE¼SE¼NE¼SE¼;

sec. 14, NW¼SW¼NW¼SW¼;

sec. 16, SE¼NE¼SE¼SE¼, SW¼NE¼SE¼SE¼, SE¼NW¼SE¼SE¼, NE¼SE¼SE¼SE¼, NW¼SE¼SE¼SE¼, SW¼SE¼SE¼SE¼, SE¼SE¼SE¼SE¼, NE¼SW¼SE¼SE¼, NW¼SW¼SE¼SE¼, SW¼SW¼SE¼SE¼, and SE¼SW¼SE¼SE¼.

T. 22 S., R. 61 E.,

sec. 33, SW¼NW¼SW¼NE¼.

The area described contains 35 acres, more or less, in Clark County.

Maps delineating the individual proposed sale parcels are available for public review at https://www.propertydisposal.gsa.gov, and at the BLM Las Vegas Field Office (LVFO), which is located at the BLM Southern Nevada District Office (address above). The FMV for each parcel will be available 60 days prior to the sale date.

The lands are being offered for sale online via the Internet using competitive sale procedures pursuant to 43 CFR 2711.3-1. Bidding on the subject parcels will begin at FMV and remain open for sale for a period of 30 days in accordance with the competitive sale procedures.

Bidders must register online at http://www.auctionrp.com/ and create a user identification and password. Registration may occur any time prior to the conclusion of the auction. All bidders must go to the GSA Web site to obtain the Certificate of Eligibility form, Bidder Registration form, and Bid form for Purchase of Government Property. Bidders must complete and mail these documents to GSA at the address listed on the Bidder Registration form. Bidders may also obtain maps and get information on how to submit competitive online bids for the sale. GSA will notify bidder(s) when they are allowed to bid online. The online auction site is updated immediately when new bids are received. A submitted online Internet bid is a binding offer. The date for receipt of final bids will be announced on the Internet at http://www.auctionrp.com.

At the conclusion of the auction, the highest qualified bid for any parcel will be declared the apparent high bidder under 43 CFR 2711.3-1(d). The declared high bidder will have 10 days from closure of the online auction to submit a bid deposit of not less than 20 percent of the successful high bid amount. Payment must be made in the form of a cashier's check, certified check or U.S. postal money order, and made payable in U.S. dollars to “Department of the Interior—Bureau of Land Management.” Personal or company checks will not be accepted. Failure to submit the 20 percent bid deposit amount within the 10 days will result in cancellation of the bid. On receipt of the 20 percent bid deposit within the 10 days, the BLM will send the successful bidder(s) a high bidder letter with detailed information for full payment.

Federal law requires that bidders must be (1) United States citizens 18 years of age or older; (2) a corporation subject to the laws of any State or of the United States; (3) an entity including, but not limited to associations or partnerships capable of acquiring and owning real property, or interests therein, under the laws of the State of Nevada; or (4) a State, State instrumentality, or political subdivision authorized to hold real property. U.S. citizenship is evidenced by presenting a birth certificate, passport, or naturalization papers. Failure to submit the above requested documents to BLM within 30 days from receipt of the high bidder letter shall result in cancellation of the sale and forfeiture of the bid deposit.

Within 30 days of the sale, BLM will, in writing, either accept or reject all bids received. No contractual, or other rights against the United States, may accrue until BLM officially accepts the offer to purchase and the full bid price is paid. Terms and Conditions: Certain minerals for each parcel will be reserved in accordance with the BLM's approved Mineral Potential Report, dated January 22, 1999. Information pertaining to the reservation of minerals specific to the parcel is located in the case file and available for review at the LVFO (address above). An offer to purchase these parcels will constitute an application for mineral conveyance of the “no known value” mineral interests. In conjunction with the final payment, an applicant for “no known value” mineral interests will be required to pay a $50 non-refundable filing fee for processing the conveyance of the “no known value” mineral interests which will be sold simultaneously with the surface interests.

The following numbered terms and conditions will appear on the conveyance documents for these parcels:

1. Discretionary leasable and saleable mineral deposits on the lands in Clark County, if any, are reserved to the United States, in accordance with the above referenced Mineral Potential Report. Permittees, licensees, and lessees of the United States retain the right to prospect for, mine, and remove such leasable and saleable minerals owned by the United States under applicable law and any regulations that the Secretary of the Interior may prescribe, together with all necessary access and exit rights;

2. A right-of-way is reserved for ditches and canals constructed by authority of the United States under the Act of August 30, 1890 (43 U.S.C. 945);

3. All parcels are subject to valid existing rights;

4. The parcels are subject to reservations for road, public utilities and flood control purposes, both existing and proposed, in accordance with the local governing entities' transportation plans;

5. By accepting this patent, the patentee agrees to indemnify, defend and hold the United States harmless from any costs, damages, claims, causes of action, penalties, fines, liabilities, and judgments of any kind or nature arising from the past, present, and future acts or omissions of the patentee, its employees, agents, contractors, or lessees, or any third-party, arising out of, or in connection with, the patentee's use, occupancy, or operations on the patented real property. This indemnification and hold harmless agreement includes, but is not limited to, acts and omissions of the patentee, its employees, agents, contractors, or lessees, or third party arising out of or in connection with the use and/or occupancy of the patented real property resulting in: (1) Violations of Federal, State, and local laws and regulations applicable to the real property; (2) Judgments, claims or demands of any kind assessed against the United States; (3) Costs, expenses, damages of any kind incurred by the United States; (4) Other releases or threatened releases on, into or under land, property and other interests of the United States by solid or hazardous waste(s) and/or hazardous substances(s), as defined by Federal or State environmental laws; (5) Other activities by which solid or hazardous substances or wastes, as defined by Federal and State environmental laws were generated, released, stored, used or otherwise disposed of on the patented real property, and any cleanup response, remedial action, or other actions related in any manner to said solid or hazardous substances or wastes; or (6) Natural resource damages as defined by Federal and State law. This covenant shall be construed as running with the patented real property, and may be enforced by the United States in a court of competent jurisdiction; and

6. Pursuant to the requirements established by Section 120(h) of the Comprehensive Environmental Response, Compensation and Liability Act, 42 U.S.C. 9620(h) (CERCLA), as amended by the Superfund Amendments and Reauthorization Act of 1988, 100 Stat. 1670, notice is hereby given that the above-described lands have been examined and no evidence was found to indicate that any hazardous substances have been stored for one year or more, nor had any hazardous substances been disposed of or released on the subject property.

No warranty of any kind, express or implied, is given by the United States as to the title, whether or to what extent the land may be developed, its physical condition, future uses, or any other circumstance or condition. The conveyance of any parcel will not be on a contingency basis. However, to the extent required by law, all parcels are subject to the requirements of Section 120(h) of the CERCLA.

Parcels may be subject to land use applications received prior to publication of this notice if processing the application would have no adverse effect on the marketability of title, or the FMV of a parcel. Encumbrances of record that may appear in the BLM public files for the parcels proposed for sale are available for review during business hours, 7:30 a.m. to 4:30 p.m., Pacific Time, Monday through Friday, at the LVFO, except during Federally recognized holidays.

All parcels are subject to limitations prescribed by law and regulation, and prior to patent issuance, a holder of any right-of-way within the parcels may be given the opportunity to amend the right-of-way for conversion to a new term, including perpetuity, if applicable, or to an easement.

BLM will notify valid existing right-of-way holders of their ability to convert their compliant rights-of-way to perpetual rights-of-way or easements. Each valid holder will be notified in writing of their rights and then must apply for the conversion of their current authorization.

Unless other satisfactory arrangements are approved in advance by a BLM authorized officer, conveyance of title shall be through the use of escrow. Designation of the escrow agent shall be through mutual agreement between the BLM and the prospective patentee, and costs of escrow shall be borne by the prospective patentee.

Requests for all escrow instructions must be received by the LVFO prior to 30 days before the prospective patentee's scheduled closing date. There are no exceptions.

No contractual or other rights against the United States may accrue until BLM officially accepts the offer to purchase, and the full bid price is submitted by the 180th day following the sale.

All name changes and supporting documentation must be received at the LVFO 30 days from the date on the high bidder letter by 4:30p.m., Pacific Time. Name changes will not be accepted after that date. To submit a name change, the apparent high bidder must submit the name change on the Certificate of Eligibility form to the LVFO in writing. Certificate of Eligibility forms are available at the LVFO and the BLM Web site at: http://www.blm.gov/nv/st/en/snplma/Land_Auctions.html.

The remainder of the full bid price for each parcel must be paid prior to the expiration of the 180th day following the close of the online auction. Payment must be submitted in the form of a certified check, postal money order, bank draft or cashier's check made payable in U.S. dollars to the “Department of the Interior—Bureau of Land Management.” Personal checks will not be accepted.

Arrangements for electronic fund transfer to BLM for payment of the balance due must be made a minimum of two weeks prior to the payment date. Failure to pay the full bid price prior to the expiration of the 180th day will disqualify the apparent high bidder and cause the entire 20 percent bid deposit to be forfeited to the BLM. Forfeiture of the 20 percent bid deposit is in accordance with 43 CFR 2711.3-1(d). No exceptions will be made. The BLM cannot accept the full bid price after the 180th day of the sale date.

The BLM will not sign any documents related to 1031 Exchange transactions. The timing for completion of the exchange is the bidder's responsibility in accordance with Internal Revenue Services regulations. BLM is not a party to any 1031 Exchange.

All sales are made in accordance with and subject to the governing provisions of law and applicable regulations.

In accordance with 43 CFR 2711.3-1(f), the BLM may accept or reject any or all offers to purchase, or withdraw any parcel of land or interest therein from sale, if, in the opinion of a BLM authorized officer, consummation of the sale would be inconsistent with any law, or for other reasons.

Any parcels not sold by competitive sale or through an online auction may be identified for sale at a later date without further legal notice. Unsold parcels may be offered for sale in future auctions without additional legal notice.

On publication of this notice and until completion of the sale, the BLM is no longer accepting land use applications affecting the parcels identified for sale. However, land use applications may be considered after completion of the sale for parcels that are not sold.

In order to determine the FMV, certain assumptions may have been made concerning the attributes and limitations of the lands and potential effects of local regulations and policies on potential future land uses. Through publication of this notice, the BLM advises that these assumptions may not be endorsed or approved by units of local government. It is the buyer's responsibility to be aware of all applicable Federal, State, and local government laws, regulations and policies that may affect the subject lands, including any required dedication of lands for public uses. It is also the buyer's responsibility to be aware of existing or prospective uses of nearby properties. When conveyed out of Federal ownership, the lands will be subject to any applicable laws, regulations, and policies of the applicable local government for proposed future uses. It will be the responsibility of the purchaser to be aware through due diligence of those laws, regulations, and policies, and to seek any required local approvals for future uses. Buyers should also make themselves aware of any Federal or State law or regulation that may impact the future use of the property. Any land lacking access from a public road or highway will be conveyed as such, and future access acquisition will be the responsibility of the buyer.

Information concerning the sale, appraisals, reservations, procedures and conditions, CERCLA and other environmental documents will be available for review at the LVFO, or by calling (702) 515-5000 and asking to speak to a member of the sales team. Most of this information will also be available on the Internet at https://www.propertydisposal.gsa.gov.

Only written comments submitted by postal service or overnight mail will be considered properly filed. Electronic mail, facsimile or telephone comments will not be considered as properly filed.

Before including your address, phone number, e-mail address, or other personal identifying information in your comment—you should be aware that your entire comment, including your personal identifying information—may be made publicly available at any time. While you can ask us in your comment to withhold your personal identifying information from public review, we cannot guarantee that we will be able to do so.

Any adverse comments regarding the proposed sale will be reviewed by the BLM Nevada State Director, who may sustain, vacate, or modify this realty action. In the absence of any valid adverse comments, this realty action will become the final determination of the Department of the Interior.

Authority: 43 CFR 2711.

Kimber Liebhauser,
Assistant Field Manager, Division of Lands.

[FR Doc. E9-21929 Filed 9-10-09; 8:45 am]

BILLING CODE 4310-HC-P